DEPARTMENT OF COMMERCE

National Oceanic and Atmospheric Administration

[Docket No. 0911041393-0040-02]

NOAA Cooperative Institutes (CIs): (1) A CI To Support NOAA Research Facilities in the Pacific Northwest, (2) A CI for Southwestern U.S. Marine Ecosystems, Climate and Ocean Studies, and (3) A Southeastern Regional CI for Atmospheric and Marine Studies

AGENCY: Office of Oceanic and Atmospheric Research, National Oceanic and Atmospheric Administration (NOAA), Department of Commerce.

ACTION: Notice; extension of application deadlines dates.

SUMMARY: On November 13, 2009, the Office of Oceanic and Atmospheric Research (OAR) published a notice of availability of funds to establish three new NOAA cooperative institutes (CIs): (1) A CI To Support NOAA Research Facilities in the Pacific Northwest, (2) A CI for Southwestern U.S. Marine Ecosystems, Climate and Ocean Studies, and (3) A Southeastern Regional CI for Atmospheric and Marine Studies. OAR publishes this notice to announce an extension to the application solicitation period. The date when applications must be received at NOAA is being extended from February 10, 2010 until February 12, 2010.

DATES: Proposals must be received no later than February 12, 2010, 5 p.m., E.T. Proposals submitted after that date will not be considered.

ADDRESSES: Applicants are strongly encouraged to apply online through the Grants.gov Web site (http://www.grants.gov). Paper submissions are acceptable only if Internet access is not available. Grants.gov requires applicants to register with the system prior to submitting an application. This registration process can take several weeks, involving multiple steps. In order to allow sufficient time for this process, you should register as soon as you decide that you intend to apply, even if you are not yet ready to submit your proposal. If an applicant has problems downloading the application package from Grants.gov, contact Grants.gov Customer Support at (800) 518-4726 or support@grants.gov.

If a hard copy application is submitted, the original and two unbound copies of the proposal should be included. Paper submissions should be sent to: Dr. John Cortinas, NOAA/OAR, 1315 East-West Highway, Room 11326, Silver Spring, MD 20910; telephone (301) 734-1090. No e-mail or facsimile e-mail or facsimile proposal submissions will be accepted.

FOR FURTHER INFORMATION CONTACT: Dr. John Cortinas, 1315 East-West Highway, Room 11326, Silver Spring, Maryland 20910; telephone (301) 734-1090. Facsimile: (301) 713-3515; e-mail: John.Cortinas@noaa.gov.

SUPPLEMENTARY INFORMATION: OAR publishes this notice to announce an extension to the application solicitation period for its notice announcing funding availability for the NOAA Cooperative Institutes Program published in the Federal Register on November 13, 2009 (74 FR 58603-58607). The date when applications must be received at NOAA is being extended from February 10, 2010 until February 12, 2010. OAR extends the solicitation period to provide applicants with more time to prepare their applications for this program.

All other requirements and information listed in the original notice remain unchanged.

Classification: Pre-Award Notification Requirements for Grants and Cooperative Agreements.

The Department of Commerce Pre-Award Notification Requirements for Grants and Cooperative Agreements contained in the Federal Register notice of February 11, 2008 (73 FR 7696) are applicable to this solicitation.

Limitation of Liability

Funding for years 2-5 of the Cooperative Institute is contingent upon the availability of appropriated funds. In no event will NOAA or the Department of Commerce be responsible for application preparation costs if these programs fail to receive funding or are cancelled because of other agency priorities. Publication of this announcement does not oblige NOAA to award any specific project or to obligate any available funds.

Paperwork Reduction Act

This notification involves collection of information requirements subject to the Paperwork Reduction Act. The use of Standard Forms 424, 424A, 424B, and SF-LLL and CD-346 has been approved by the Office of Management and Budget (OMB) respectively under control numbers 0348-0043, 0348-0044, 0348-0040, and 0348-0046 and 0605-0001. Notwithstanding any other provision of law, no person is required for failure to comply with, a collection of information subject to the requirements of the PRA unless that collection of information displays a currently valid OMB Control Number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, grants, benefits, and contracts (5 U.S.C. 553(a)(2)). Because notice and opportunity for comments are not required pursuant to U.S.C. 553 or any other law, the analytical requirements of the Regulatory Flexibility Act (5 U.S.C. 601 et seq.) are inapplicable. Therefore, a regulatory flexibility analysis is not required and none has been prepared.

Dated: January 28, 2010.
Mark E. Brown,
Chief Financial Officer/Chief Administrative Officer, Oceanic and Atmospheric Research, National Oceanic and Atmospheric Administration.

[FR Doc. 2010-2314 Filed 2-2-10; 8:45 am]

BILLING CODE 3510-KD-P